DEPARTMENT OF COMMERCE

International Trade Administration

Private Sector Participation in Overseas Trade Missions

AGENCY: International Trade Administration, Department of Commerce

ACTION: Notice

SUMMARY: The Department of Commerce invites U.S. companies to participate in the below listed overseas trade missions. For a more complete description of each trade mission, obtain a copy of the mission statement from the Project Officer indicated for each mission below. Recruitment and selection of private sector participants for these missions will be conducted according to the Statement of Policy Governing Department of Commerce Overseas Trade Missions dated March 3, 1997. Textile Trade Mission to Central America and the Dominican Republic, El Salvador, Honduras, Dominican Republic and Guatemala, December 3-9, 2000. Recruitment closes on November 1, 2000.

For further information contact: Mr. William Dawson, U.S. Department of Commerce. Tel: 202-482-5155, Fax: 202-482-2859, E-Mail: William_Dawson@ita.doc.gov

District Heating Mission to Russia, Moscow and St. Petersburg, May 11-17, 2001. Recruitment closes on January 12, 2001

For further information contact: Ms. Rachel Halpern, U.S. Department of Commerce. Tel: 202-482-4423, Fax: 202-482-0170, E-Mail: Rachel_Halpern@ita.doc.gov

FOR FURTHER INFORMATION CONTACT: Mr. Reginald Beckham, U.S. Department of Commerce. Tel: 202-482-5478, Fax: 202-482-1999.

Dated: October 19, 2000.
Thomas H. Nisbet,
Director, Promotion Planning and Support Division, Office of Export Promotion Coordination.

[FR Doc. 00-27671 Filed 10-26-00; 8:45 am]

BILLING CODE 3510-DR-P